DEPARTMENT OF JUSTICE

Antitrust Division

Notice Pursuant to the National Cooperative Research and Production Act of 1993—National Armaments Consortium

Notice is hereby given that, on October 25, 2016, pursuant to Section 6(a) of the National Cooperative Research and Production Act of 1993, 15 U.S.C. 4301 et seq. (“the Act”), National Armaments Consortium (“NAC”) has filed written notifications simultaneously with the Attorney General and the Federal Trade Commission disclosing changes in its membership. The notifications were filed for the purpose of extending the Act's provisions limiting the recovery of antitrust plaintiffs to actual damages under specified circumstances. Specifically, Canton Drop Forge, Canton, OH; Consult M and P LLC, New York, NY; Cougaar Software, Inc., Vienna, VA; Iris Technology Corporation, Irvine, CA; Meggitt (Orange County), Inc., Irvine, CA; Missouri University of Science and Technology, Rolla, MO; Nufern, E. Granby, CT; SEA CORP, Middletown, RI; The Shepherd Chemical Company, Norwood, OH; Transparent Armor Solutions, Inc., Santa Ana, CA; UTEC Corporation, Norman, OK; and Veloxint Corporation, Framington, MA, have been added as parties to this venture.

Also, BEAM Engineering for Advanced Measurements, Orlando, FL; Chesapeake Testing Services, Inc., Belcamp, MD; Evigia Systems, Inc., Ann Arbor, MI; GECO, Inc., Mesa, AZ; GPH Consulting, LLC, Charleston, SC; Kranze Technology Solutions, Inc., Prospect Heights, IL; Lasertel, Inc., Tucson, AZ; MacAulay-Brown, Inc., Dayton, OH; T.E.A.M., Inc., Woonsocket, RI; and UXB International, Inc., Blacksburg, VA, have withdrawn as parties to this venture.

No other changes have been made in either the membership or planned activity of the group research project. Membership in this group research project remains open, and NAC intends to file additional written notifications disclosing all changes in membership.

On May 2, 2000, NAC filed its original notification pursuant to Section 6(a) of the Act. The Department of Justice published a notice in the Federal Register pursuant to Section 6(b) of the Act on June 30, 2000 (65 FR 40693).

The last notification was filed with the Department on August 16, 2016. A notice was published in the Federal Register pursuant to Section 6(b) of the Act on September 20, 2016 (81 FR 64507).

Patricia A. Brink,
Director of Civil Enforcement, Antitrust Division.

[FR Doc. 2016-29906 Filed 12-12-16; 8:45 am]

BILLING CODE 4410-11-P